DEPARTMENT OF AGRICULTURE

Economic Research Service

Notice of Intent To Request New Information Collection

AGENCY: Economic Research Service, USDA.

ACTION: Notice and request for comments.

SUMMARY: In accordance with the Paperwork Reduction Act of 1995, this notice invites the general public and other public agencies to send comments regarding any aspect of this proposed information collection. This is a new collection for the National Food Study.

DATES: Written comments on this notice must be received on or before December 5, 2011 to be assured of consideration.

ADDRESSES: Address all comments concerning this notice to Mark Denbaly, Food Economics Division, Economic Research Service, U.S. Department of Agriculture, 355 E St., SW., Room 05N09, Washington, DC 20024-3221. Comments may also be submitted via fax to the attention of Mark Denbaly at 202-245-4779 or via e-mail to mdenbaly@ers.usda.gov. Comments will also be accepted through the Federal eRulemaking Portal. Go to http://www.regulations.gov, and follow the online instructions for submitting comments electronically.

All written comments will be open for public inspection at the office of the Economic Research Service during regular business hours (8:30 a.m. to 5 p.m., Monday through Friday) at 355 E St., SW., Washington, DC 20024-3221.

All responses to this notice will be summarized and included in the request for Office of Management and Budget approval. All comments will be a matter of public record. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

FOR FURTHER INFORMATION CONTACT: For further information contact Mark Denbaly at the address in the preamble. Tel. 202-694-5390.

SUPPLEMENTARY INFORMATION:

Title: National Food Study.

OMB Number: 0536-XXXX.

Expiration Date: Three years from the Date of Approval.

Type of Request: New Collection.

Abstract: The National Household Food Acquisition and Purchase Study (the National Food Study) will be conducted over a six-month period from April through September 2012. The survey will collect nationally representative data from 5,000 households, including 1,500 households participating in the Supplemental Nutrition Assistance Program (SNAP, formerly the Food Stamp Program). Each participating household will be asked to provide the pertinent information over a one-week period. Legislative authority for the planned data collection is Section 17 (a)(1) of the Food and Nutrition Act of 2008, 7 U.S.C. 2026. This section authorizes the Secretary to enter into contracts with private institutions to undertake research that will help improve the administration and effectiveness of the SNAP in delivering nutrition-related benefits.

The information to be collected by the National Food Study is necessary to assess and understand the relationships among: (1) Foods purchased for consumption at home and away from home over a one-week period, as well as foods acquired through food and nutrition assistance programs (both public and private); (2) household access to food, including locations where food is acquired and distance to acquisition points; (3) number of meals and snacks consumed by each household member during a one-week period; and (4) household characteristics, including income, participation in federal food assistance programs, non-food expenditures, food security, health status, and diet and nutrition knowledge of the primary food shopper.

This survey will provide data not currently available to program officials and researchers, thereby broadening the scope of economic analyses of food choices made by U.S. households and how those choices influence diet quality and reflect decisions about participation in food assistance programs. The information to be collected by the survey is necessary to assess and understand the relationships among: (1) The types of foods and beverages households purchase, including those obtained and consumed away from home; (2) the nutritional quality of these foods and beverages; (3) the types of food retailers within proximity to households; (4) the influence of household income and food prices on purchases of food brought home and food consumed away from home; (5) levels of food security and the relationships between food security and types of food purchases; (6) levels of dietary knowledge and the relationship with types of food purchases; and (7) differences in food acquisition and food security outcomes between SNAP participants and nonparticipants.

This nationally representative survey will collect data from a planned 5,000 households selected at random from within 50 Primary Sampling Units (counties or groups of counties) in 27 States. The sample will be selected from an address-based sampling frame. Households residing at selected addresses will be asked to complete a brief screener to determine eligibility. Eligible households will be asked to participate in the one-week survey. The primary respondent, identified as the primary food shopper, will be asked to use a handheld scanner provided by the study to scan barcodes on all foods brought into the home for a one-week period. All members of the household age 11 years and older will be asked to keep a food diary of all foods that they acquire and consume away from home during the one-week period; primary respondents will report the food diary information for all household members via brief telephone interviews three times during the week. The primary household respondent will also be asked to complete two interviews: (1) Household Interview #1 will be conducted in person by a field interviewer at the start of the data collection week and will collect information about household demographics, food shopping, and participation in food assistance programs; (2) Household Interview #2 will be conducted in person at the end of the data collection week and will collect information about non-food expenditures, income, health status, diet and nutrition knowledge, and food security. The primary household respondent will be asked to complete two paper forms: (1) the Meals and Snacks form contains a grid with checkboxes to indicate the meals and snacks consumed by each household member on each day of the one-week data collection period; (2) the Respondent Feedback form contains four questions about household participation in the survey, to be completed at the end of the data collection week. To conduct the economic analyses of household food choice behavior, data from state agencies about participation in food programs may be used in combination with collected data. Any state data obtained will be kept strictly confidential. The confidential program data and linked files will be used solely for statistical and economic research purposes that inform program administration, not for enforcement purposes.

All study instruments will be kept as simple and respondent-friendly as possible. Responses are voluntary and confidential. Study instruments and procedures were tested during the National Food Study Field Test, conducted from February through May 2011. The field test collected data from 400 households selected at random from within two Primary Sampling Units (counties), and tested the efficacy of two alternate survey protocols for collecting food data and two different incentive levels for time spent completing the forms.

Responses from the National Food Study will be combined for statistical purposes and reported only in aggregate or statistical form. Two sets of data files will be prepared from survey data: (1) Public use data files that will not contain any personal identifiers like names and addresses of respondents; and (2) restricted-access files that will contain all data items in the public use files, plus geocodes for households and public locations (stores and restaurants) where foods were acquired.

Affected Public: Respondent groups include: (1) Households participating in SNAP; (2) non-SNAP households with incomes below 100% of the Federal Poverty Level (FPL); (3) non-SNAP households with incomes between 100% and 185% of the FPL; and (4) non-SNAP households with incomes above 185% of the FPL.

Estimated Number of Respondents: The estimated number of respondents includes: (1) 24,675 households screened for income eligibility (it is expected that 19,740 households, or 80 percent, will complete the screener and 4,935, or 20 percent, will not); (2) of the 7,726 households expected to be determined to be eligible for the survey after completing the screener, 5,795 (75 percent) are expected to agree to participate and complete Household Interview #1 and collect food data, and 1,932, (25 percent) will not; (3) of the 5,795 households who complete Household Interview #1 5,099 (88 percent) are expected to complete reporting of food obtained for home preparation and consumption, three Telephone interviews to report food away from home, and Household Interview #2, while 695 (12 percent) will not; (4) of the 5,795 households who complete Household Interview #1, 4,925 (85 percent) are expected to complete the Meals and Snacks form and Respondent Feedback form, and 869 (15 percent) will not; and (5) of the expected 13,892 food diaries to be completed (i.e., an average of 2.4 family members per household), 12,225 diaries (88 percent) are expected to be completed and 1,667 (12 percent) will not.

Estimates of the percentages of respondents who will agree to complete the forms are based on the National Food Study Field Test (conducted from February through May 2011) and, insofar as possible, on experience with previous data collections of similar complexity.

Estimated Number of Responses per Respondent: 6.51 (average). Estimated responses per respondent are as follows: all 24,675 sampled households will be asked to respond to the screener once; an estimated 7,726 survey-eligible households will be asked to respond to Household Interview #1 once; and an estimated 5,795 households completing Household Interview #1 will be asked to respond to Household Interview #2 once.

The estimated 5,795 households completing Household Interview #1 will be asked to complete reports on and scan food brought into the home, with an estimated frequency of three times during the seven-day data collection period. An estimated 13,892 family members aged 11 and above (an average of 2.4 members per household) will be asked to complete seven daily food diaries for food not brought home. An estimated 5,795 households will be asked to report food diary information over the telephone three times, complete the Meals and Snacks form on each of 7 days, and complete the Respondent Feedback form once.

Estimated Total Annual Responses: 160,755.

Estimated Time per Response: 0.23 hours. As shown in the table below, the estimated time of response varies from 0.02 hours (1 minute) to 0.58 hours (35 minutes) per instrument for respondents and from 0.02 hours (1 minute) to 0.08 hours (5 minutes) per instrument for non-respondents. These estimates of respondent burden are based on the National Food Study field test.

Estimated Total Annual Burden on Respondents: 37,562.55 hours. See the table below for the estimated total annual burden for each type of instrument.

Reporting Burden
Description | Estimated number of respondents | Responses annually per respondent | Total annual reponses | Estimated average number of hours per response* | Estimated total annual hours of response burden
Household screener:
Completed interviews | 19740 | 1.00 | 19740 | 0.17 | 3290.00
Attempted interviews (including Short Form for Refusals) | 4935 | 1.00 | 4935 | 0.08 | 411.25
Household Interview #1:
Completed interviews | 5795 | 1.00 | 5795 | 0.42 | 2414.38
Attempted interviews | 1932 | 1.00 | 1932 | 0.08 | 160.96
Household Interview #2:
Completed interviews | 5099 | 1.00 | 5099 | 0.58 | 2974.51
Attempted interviews | 695 | 1.00 | 695 | 0.05 | 34.77
Reporting food obtained for home preparation or consumption:
Completed reports | 5099 | 3.00 | 15297 | 0.17 | 2549.58
Attempted reports | 695 | 1.00 | 695 | 0.05 | 34.77
Food diary:
Completed reports | 12225 | 7.00 | 85573 | 0.25 | 21393.27
Attempted reports | 1667 | 3.00 | 5001 | 0.08 | 416.75
Telephone reporting of “food away from home“:
Completed interviews | 5099 | 3.00 | 15297 | 0.25 | 3824.37
Attempted interviews | 695 | 1.00 | 695 | 0.08 | 57.95
Meals and Snacks Form:
Completed interviews | 4925 | 7.00 | 34477 | 0.02 | 574.62
Attempted interviews | 869 | 1.00 | 869 | 0.02 | 14.49
Respondent Feedback Form:
Completed interviews | 4925 | 1.00 | 4925 | 0.08 | 410.44
Attempted interviews | 869 | 1.00 | 869 | 0.02 | 14.49
Total responding burden | 24,675 | 6.51 | 160,755 | 0.23 | 37562.55
* Estimates are rounded to the nearest hundredth.

Dated: September 27, 2011.
Sarahelen Thompson,
Acting Administrator, Economic Research Service, U. S. Department of Agriculture.

[FR Doc. 2011-25679 Filed 10-4-11; 8:45 am]

BILLING CODE 3410-18-P